DEPARTMENT OF THE INTERIOR

Bureau of Land Management

[MT-021-00-1220-AF]

Modification of Firearms Closure for the William L. Matthews Wildlife Habitat and Recreation Area, Montana

AGENCY: Bureau of Land Management, Miles City Field Office, Interior.

ACTION: Modification of firearms closure to further restrict the discharge of firearms on the William L. Matthews Wildlife Habitat and Recreation Area, Custer County, Montana.

SUMMARY: On May 31, 1994, the Bureau announced, through the Federal Register, a rule to close the William L. Matthews Wildlife Habitat and Recreation Area to discharge of rifles and pistols year-long. Further analysis and coordination with various interests, landowners and agencies have identified the need to expand the rule as follows to improve visitor safety and reduce conflicts:

The area of public land known as William L. Matthews (formerly Tusler) Wildlife Habitat and Recreation Area is closed to discharge or use of all firearms including archery equipment with the following exceptions: (1) Law enforcement officers in performance of their official duties; and (2) use of shotguns and archery equipment for hunting during the State of Montana's legal upland game bird and waterfowl hunting seasons. For the purpose of this rule, a firearm is a rifle, pistol, shotgun and bow and arrow. Even though seasonal hunting is allowed on site, shooting is not allowed at any time in the picnic area. The intent is to prohibit target shooting to improve safety for non-hunting visitors.

The public land affected by this closure is described as:

Principal Meridian, Montana

T. 9N., R. 48E.,

Sec. 30, lots 5 and 6, and that portion of the W½SE¼ lying westerly of the Chicago, Milwaukee, St Paul, and Pacific Railroad right-of-way.

Consisting of 74.38 acres of surface estate.

DATES: Comments on the proposed modification must be submitted on or before May 30, 2000.

ADDRESSES: Comments may be submitted to Field Manager, Miles City Field Office, 111 Garryowen Road, Miles City, MT 59301.

FOR FURTHER INFORMATION CONTACT: Dan Bricco, Outdoor Recreation Planner, Miles City Field Office, 111 Garryowen Road, Miles City, MT 59301 or call (406) 233-2827.

SUPPLEMENTARY INFORMATION: Barring any comments that cause BLM to reconsider the modification, this rule becomes effective the day after the comment period ends. Opening this area will require public participation and an opening order published in the Federal Register.

Authority for this action is outlined in sections 302, 303, and 310 of the Federal Land Policy and Management Act of October 26, 1976 (43 U.S.C. 1716) Title 43 Code of Federal Regulations subpart 8364 (43 CFR 8364.1). Any person who fails to comply with this closure is subject to a fine not to exceed $1,000 and/or imprisonment not to exceed 12 months.

Dated: April 18, 2000.
Timothy M. Murphy,
Field Manager.

[FR Doc. 00-10626 Filed 4-27-00; 8:45 am]

BILLING CODE 4310-$$-P